NATIONAL SCIENCE FOUNDATION

Request for Information—Interagency Arctic Research Policy Committee, Chaired by the National Science Foundation

AGENCY: National Science Foundation.

ACTION: Request for information.

SUMMARY: The Interagency Arctic Research Policy Committee (IARPC), chaired by the National Science Foundation, is seeking comment from the public on how best to revise and strengthen the Principles for the Conduct of Research in the Arctic (https://www.nsf.gov/geo/opp/arctic/conduct.jsp). These Principles were adopted in 1990 by the federal agencies that participate in IARPC and published in 1990. Since 1990, community engagement and Arctic research have advanced both in theory and in practice, necessitating a review and update of the current Principles. The update will focus on communicating clearly the Principles for community engagement by Arctic researchers and including language that describes partnerships and collaborations with Indigenous scholars, enhanced community-based observations, fostering community-based participatory research, and the integral contributions of Indigenous knowledge in the co-production and dissemination of knowledge. Input is also sought on enhancing the dissemination and implementation of the Principles.

DATES: Written comments must be submitted no later than January 16, 2018.

ADDRESSES: Email comments to iarpcprinciples@nsf.gov. Address written submissions to Renee Crain, Office of Polar Programs, National Science Foundation, 2415 Eisenhower Avenue, Alexandria, VA 22314.

FOR FURTHER INFORMATION CONTACT: For further information contact Renee Crain at 703-292-4482.

SUPPLEMENTARY INFORMATION: All researchers working in the North have an ethical responsibility toward northern communities, their cultures, and the environment. The Interagency Arctic Research Policy Committee (IARPC) developed the Principles for the Conduct of Research in the Arctic to provide guidance for researchers in the physical, biological, behavioral, health, economic, political, and social sciences and in the humanities. The current Principles were prepared by the Social Science Task Force of the U.S. Interagency Arctic Research Policy Committee, approved by the IARPC on June 28, 1990, and published by IARPC in volume 9, (Spring, 1995, pp. 56-57) of the journal “Arctic Research of the United States” (https://www.arctic.gov/publications/related/arotus.html).

The Principles address the need to promote mutual respect and communication between scientists and northern residents. These Principles are to be observed when carrying out or sponsoring research in the Arctic or when applying the results of this research. Since 1990, new theoretical and methodological approaches to community engagement and Arctic research have emerged necessitating a review and update of the current Principles with an aim to including more language on partnerships and collaborations, including increased engagement with Indigenous scholars, enhanced community-based observations, fostering community-based participatory research, and the integral contributions of Indigenous knowledge in the co-production and dissemination of knowledge.

IARPC requests input from the public on how best to revise and strengthen the Principles for the Conduct of Research in the Arctic (https://www.nsf.gov/geo/opp/arctic/conduct.jsp), on how to disseminate the Principles, and on supporting the implementation of the Principles. Collaboration is needed at all stages of research planning, implementation, and reporting of projects that directly affect northern communities. Cooperation will contribute to a better understanding of the potential benefits of Arctic research for northern residents and will enhance the development of Arctic science by including Indigenous knowledge and experience.

IARPC is interested in all suggestions for how to improve the Principles and information about how consultation and collaboration are working. The Working Group leading this effort drafted the following list of questions to consider. We welcome input on these issues and any others the public deems relevant.

• What are the most important 3-5 principles for researchers to follow?

• What elements of the Principles should be retained?

• What are ways in which engagement between researchers and communities can be improved?

• How can the Principles be made more widely known to researchers and to northern residents?

The effort to revise the Principles is intended to collect input from the broadest set of stakeholders on the Principles document to include northern residents, Alaska Native communities, other Arctic Indigenous peoples, researchers, state and federal agency representatives, and others.

Dated: November 8, 2017.
Suzanne H. Plimpton,
Reports Clearance Officer, National Science Foundation.

[FR Doc. 2017-24678 Filed 11-14-17; 8:45 am]

BILLING CODE 7555-01-P